DEPARTMENT OF HOMELAND SECURITY

U.S. Citizenship and Immigration Services

[CIS No. 2538-13; DHS Docket No. USCIS-2013-0006]

RIN 1615-ZB24

Extension of the Designation of Somalia for Temporary Protected Status

AGENCY: U.S. Citizenship and Immigration Services, Department of Homeland Security.

ACTION: Notice.

SUMMARY: Through this Notice, the Department of Homeland Security (DHS) announces that the Secretary of Homeland Security (Secretary) is extending the designation of Somalia for Temporary Protected Status (TPS) for 18 months from March 18, 2014 through September 17, 2015.

The extension allows currently eligible TPS beneficiaries to retain TPS through September 17, 2015, so long as they otherwise continue to meet the eligibility requirements for TPS. The Secretary has determined that an extension is warranted because the conditions in Somalia that prompted the TPS designation continue to be met. There continues to be a substantial, but temporary, disruption of living conditions in Somalia based upon ongoing armed conflict and extraordinary and temporary conditions in that country that prevent Somalis who have TPS from safely returning.

Through this Notice, DHS also sets forth procedures necessary for nationals of Somalia (or aliens having no nationality who last habitually resided in Somalia) to re-register for TPS and to apply for renewal of their Employment Authorization Documents (EADs) with U.S. Citizenship and Immigration Services (USCIS). Re-registration is limited to persons who have previously registered for TPS under the designation of Somalia and whose applications have been granted. Certain nationals of Somalia (or aliens having no nationality who last habitually resided in Somalia) who have not previously applied for TPS may be eligible to apply under the late initial registration provisions, if they meet: (1) At least one of the late initial filing criteria and (2) all TPS eligibility criteria (including continuous residence in the United States since May 1, 2012, and continuous physical presence in the United States since September 18, 2012).

For individuals who have already been granted TPS under the Somalia designation, the 60-day re-registration period runs from October 31, 2013 through December 30, 2013. USCIS will issue new EADs with a September 17, 2015 expiration date to eligible Somali TPS beneficiaries who timely re-register and apply for EADs under this extension.

DATES: The 18-month extension of the TPS designation of Somalia is effective March 18, 2014, and will remain in effect through September 17, 2015. The 60-day re-registration period runs from October 31, 2013 through December 30, 2013.

FOR FURTHER INFORMATION CONTACT: • For further information on TPS, including guidance on the application process and additional information on eligibility, please visit the USCIS TPS Web page at http://www.uscis.gov/tps.

You can find specific information about this extension of Somalia for TPS by selecting “TPS Designated Country: Somalia” from the menu on the left of the TPS Web page.

• You can also contact the TPS Operations Program Manager at the Family and Status Branch, Service Center Operations Directorate, U.S. Citizenship and Immigration Services, Department of Homeland Security, 20 Massachusetts Avenue NW., Washington, DC 20529-2060; or by phone at (202) 272-1533 (this is not a toll-free number). Note: The phone number provided here is solely for questions regarding this TPS notice. It is not for individual case status inquires.

• Applicants seeking information about the status of their individual cases can check Case Status Online, available at the USCIS Web site at http://www.uscis.gov, or call the USCIS National Customer Service Center at 800-375-5283 (TTY 800-767-1833). Service is available in English and Spanish.

• Further information will also be available at local USCIS offices upon publication of this Notice.

SUPPLEMENTARY INFORMATION:

Table of Abbreviations

AMISOM—African Union Mission in Somalia

BIA—Board of Immigration Appeals

DHS—Department of Homeland Security

DOS—Department of State

EAD—Employment Authorization Document

FNC—Final Nonconfirmation

GOS—Government of Somalia

Government—U.S. Government

IDP—Internally Displaced Person

IJ—Immigration Judge

INA—Immigration and Nationality Act

OSC—U.S. Department of Justice, Office of Special Counsel for Immigration-Related Unfair Employment Practices

SAVE—USCIS Systematic Alien Verification for Entitlements Program

Secretary—Secretary of Homeland Security

TFG—Transitional Federal Government

TNC—Tentative Nonconfirmation

TPS—Temporary Protected Status

TTY—Text Telephone

UN—United Nations

USCIS—U.S. Citizenship and Immigration Services

What is Temporary Protected Status (TPS)?

• TPS is a temporary immigration status granted to eligible nationals of a country designated for TPS under the Immigration and Nationality Act (INA), or to persons without nationality who last habitually resided in the designated country.

• During the TPS designation period, TPS beneficiaries are eligible to remain in the United States, may not be removed, and may obtain work authorization, so long as they continue to meet the requirements of TPS.

• TPS beneficiaries may also be granted travel authorization as a matter of discretion.

• The granting of TPS does not lead to permanent resident status.

• When the Secretary terminates a country's TPS designation, beneficiaries return to the same immigration status they maintained before TPS, if any (unless that status has since expired or been terminated), or to any other lawfully obtained immigration status they received while registered for TPS.

When was Somalia designated for TPS?

On September 16, 1991, the Attorney General designated Somalia for TPS based on extraordinary and temporary conditions resulting from armed conflict. See 56 FR 46804 (Sept. 16, 1991). The initial designation was extended nine times based on determinations that the conditions warranting the designation continued to be met. On September 4, 2001, the Attorney General both extended Somalia's TPS designation for a tenth time and redesignated Somalia for TPS. See 66 FR 46288 (Sept. 4, 2001). Under the 2001 redesignation, the Attorney General revised the date from which applicants had to show they had been “continuously residing” in and “continuously physically present” in the United States to September 4, 2001. Somalia's TPS designation was subsequently extended nine additional times, including on May 1, 2012, when the Secretary both extended and redesignated Somalia for TPS. Under the 2012 redesignation, the Secretary revised the “continuous residence” date to May 1, 2012 and the “continuous physical presence” date to September 18, 2012. See 77 FR 25723 (May 1, 2012). This announcement is the first extension of TPS for Somalia since the 2012 extension and redesignation.

What authority does the Secretary of Homeland Security have to extend the designation of Somalia for TPS?

Section 244(b)(1) of the INA, 8 U.S.C. 1254a(b)(1), authorizes the Secretary, after consultation with appropriate Government agencies, to designate a foreign state (or part thereof) for TPS.¹ The Secretary may then grant TPS to eligible nationals of that foreign state (or aliens having no nationality who last habitually resided in that state). See INA section 244(a)(1)(A), 8 U.S.C. 1254a(a)(1)(A).

¹ As of March 1, 2003, in accordance with section 1517 of title XV of the Homeland Security Act of 2002 (HSA), Public Law 107-296, 116 Stat. 2135, any reference to the Attorney General in a provision of the INA describing functions transferred from the Department of Justice to DHS “shall be deemed to refer to the Secretary” of Homeland Security. See 6 U.S.C. 557 (codifying HSA, tit. XV, section 1517).

At least 60 days before the expiration of a country's TPS designation or extension, the Secretary, after consultation with appropriate Government agencies, must review the conditions in a foreign state designated for TPS to determine whether the conditions for the TPS designation continue to be met. See INA section 244(b)(3)(A), 8 U.S.C. 1254a(b)(3)(A). If the Secretary determines that a foreign state continues to meet the conditions for TPS designation, the designation is extended for an additional 6 months (or in the Secretary's discretion for 12 or 18 months). See INA section 244(b)(3)(C), 8 U.S.C. 1254a(b)(3)(C). If the Secretary determines that the foreign state no longer meets the conditions for TPS designation, the Secretary must terminate the designation. See INA section 244(b)(3)(B), 8 U.S.C. 1254a(b)(3)(B).

Why is the Secretary extending the TPS designation for Somalia through September 17, 2015?

Over the past year, DHS and the Department of State (DOS) have continued to review conditions in Somalia. Based on this review and after consulting with DOS, the Secretary has determined that an 18-month extension is warranted because the conditions that led to the 2012 redesignation of Somalia for TPS—(1) ongoing armed conflict and (2) extraordinary and temporary conditions that prevent Somali nationals from returning to Somalia in safety—continue to exist.

Somalia ended its 8-year transitional period of governance in September 2012 with the formation of a new and more representative federal parliament and that parliament's indirect election of Hassan Sheikh Mohamud as President. The Somaliland and Puntland regions, in the north of Somalia, are relatively stable, and the administrations of each are able to provide some degree of social services, including minimal law enforcement. President Hassan Sheikh's Government of Somalia (GOS) has prioritized security and peace among its “Six Pillar Policy” framework of the new administration. Though the country is now transitioning to more permanent governing institutions, the GOS still retains little control of the territory and has little capacity to govern beyond Mogadishu. No effective political parties yet exist. Two decades of conflict in Somalia and the country's most severe drought in 60 years have led to what has been referred to as the worst humanitarian crisis in the world. A sustained military campaign against al-Shabaab throughout 2012 resulted in large numbers of civilian deaths and displacement. During the same period, targeted attacks by al-Shabaab, using suicide bombers and improvised explosive devices, resulted in significant civilian causalities. Al-Shabaab still controls large rural areas in southern Somalia and as far north as Puntland, and denies both the Somali government and humanitarian organizations access to people in those areas. Although it no longer maintains an open presence in the capital, Al Shabaab has continued to carry out coordinated asymmetric attacks in Mogadishu in 2013.

A severe drought and famine that lasted from July 2011 to February 2012 is estimated to have resulted in approximately 258,000 deaths. About half, or some 133,000 of the Somalis who perished, were children under 5 years of age, according to the United Nations (UN) Food and Agricultural Organization. Recovery from the famine has been slow. Internal displacement remained a major problem during 2012 as hundreds of thousands of people continued to be displaced by fighting, insecurity, and malnutrition. Estimates of internally displaced persons at the end of 2012 were as high as 1.36 million. Displacement resulted from conflict as fighting escalated in Mogadishu, Kismayo and the Afgoye corridor at various points in 2012. An October 2012 flood in Beletweyn-Hiiraan in central Somalia affected 60,000 and resulted in 39,000 people receiving shelter and survival aid from the International Committee of the Red Cross. During the first quarter of 2013 an additional 14,000 individuals were displaced. As of May 2013, in Mogadishu alone there were 369,000 IDPs.

Humanitarian access and assistance remains restricted inside parts of Somalia due to ongoing conflict, al-Shabaab prohibitions on international aid organizations, insecurity, and diversion of aid. Somalia's displaced population has been victim to theft, extortion, and the threat of forced evictions by abusive groups controlling IDP sites. These threats combined with lack of infrastructure and logistical challenges have caused difficulties in protecting vulnerable IDP populations. During 2012, nine humanitarian personnel were killed, one was wounded, and four were kidnapped. Access to aid gradually improved during 2012, in limited urban areas, but the country presents a challenging operating environment as deliberate obstruction by groups continues to restrict access to humanitarian assistance and create high risks for aid workers.

Transitional Federal Government (TFG) forces and the African Union Mission in Somalia (AMISOM) military launched successful offensives against al-Shabaab in 2011. By August 2011, AMISOM and TFG forces had expelled al-Shabaab from the capital city of Mogadishu. Kenyan forces took control of the major port city, Kismayo, from al-Shabaab in September 2012. A sustained military campaign against al-Shabaab throughout 2012 resulted in large numbers of civilian deaths and displacement. Targeted attacks by al-Shabaab using suicide bombers and improvised explosive devices resulted in significant civilian causalities. Reliable estimates of nationwide civilian causalities are not currently available. Between January and late September 2012, four hospitals in Mogadishu treated 5,219 casualties, with 118 dying from weapon-related injuries.

Somalis who have sought to move to the relatively more secure regions of Puntland and Somaliland have in some cases been expelled or prosecuted, as they are viewed as outsiders. In al-Shabaab controlled territory, they are at risk of running afoul of al-Shabaab imposed edicts on behavior or of conscription of minors into al-Shabaab forces. Despite initial security sector improvements and restructuring, the GOS currently does not have the capability to provide improved rule of law for Somali citizens.

Additionally, Somalis have fled to neighboring countries in an attempt to find refuge. In July 2012, the Office of the UN High Commissioner for Refugees announced that the population exodus from Somalia had exceeded one million, with refugees having fled mainly to Kenya (with approximately 535,000 registered Somali refugees at the end of July 2012), Yemen, and Ethiopia. As of January 2013, there were approximately 1.1 million refugees outside of Somalia and 33,000 asylum seekers worldwide. One million Somalis, or 14 percent of the total population, are experiencing acute food insecurity. The IDPs amount to 60 percent of the total population experiencing acute food insecurity. It is estimated that 2.7 million Somalis are dependent on humanitarian assistance. Authorities in the Transitional Federal Government and Government of Somalia (TFG/GOS), Somaliland, and Puntland administrations have provided some protection and assistance to IDPs, although the response in TFG/GOS areas has been largely ineffective as a consequence of limitations on resources, capacity, and poor coordination. Gender-based violence, including sexual assault of female IDPs, has remained a problem. In Mogadishu and surrounding areas between January and November 2012, almost one-third of the recorded incidents were against children. Many cases involved assaults by armed men in uniform.

In many parts of Somalia, including Mogadishu, public security is unstable. The capacity of the GOS to process, accommodate, and provide assistance to returnees is extremely limited. It is unable to assist or monitor the welfare of IDP or refugee returnees to communities still controlled by al-Shabaab. Returnees may be more vulnerable than the average Somali if they are unable to reestablish themselves in their clan structure or community of origin.

Based upon this review and after consultation with appropriate Government agencies, the Secretary finds that:

• The conditions that prompted the May 1, 2012 redesignation of Somalia for TPS continue to be met. See INA section 244(b)(3)(A) and (C), 8 U.S.C. 1254a(b)(3)(A) and (C).

• There continue to be an ongoing armed conflict and extraordinary and temporary conditions in Somalia that prevent Somali nationals from returning to Somalia in safety. See INA section 244(b)(1)(A) and (C), 8 U.S.C. 1254a(b)(1)(A) and (C).

• It is not contrary to the national interest of the United States to permit Somalis (and persons who have no nationality who last habitually resided in Somalia) who meet the eligibility requirements of TPS to remain in the United States temporarily. See INA section 244(b)(1)(C), 8 U.S.C. 1254a(b)(1)(C).

• The designation of Somalia for TPS should be extended for an additional 18-month period from March 18, 2014 through September 17, 2015. See INA section 244(b)(3)(C), 8 U.S.C. 1254a(b)(3)(C).

• There are approximately 400 current Somalia TPS beneficiaries who are expected to be eligible to re-register for TPS under the extension.

Notice of Extension of the TPS Designation of Somalia

By the authority vested in me as Secretary under INA section 244, 8 U.S.C. 1254a, I have determined, after consultation with the appropriate Government agencies, that the conditions that prompted the redesignation of Somalia for TPS on May 1, 2012 continue to be met. See INA section 244(b)(3)(A), 8 U.S.C. 1254a(b)(3)(A). On the basis of this determination, I am extending the existing TPS designation of Somalia for 18 months from March 18, 2014 through September 17, 2015. See INA section 244(b)(1)(A) and (C) and (b)(2), 8 U.S.C. 1254a(b)(1)(A) and (C) and (b)(2).

Rand Beers,
Acting Secretary.

Required Application Forms and Application Fees To Register or Re-Register for TPS

To register or re-register for TPS for Somalia, an applicant must submit each of the following two applications:

1. Application for Temporary Protected Status (Form I-821).

• If you are filing an application for late initial registration, you must pay the fee for the Application for Temporary Protected Status (Form I-821). See 8 CFR 244.2(f)(2) and 244.6 and information on late initial filing on the USCIS TPS Web page at http://www.uscis.gov/tps.

• If you are filing an application for re-registration, you do not need to pay the fee for the Application for Temporary Protected Status (Form I-821). See 8 CFR 244.17. and

2. Application for Employment Authorization (Form I-765).

• If you are applying for late initial registration and want an EAD, you must pay the fee for the Application for Employment Authorization (Form I-765) only if you are age 14 through 65. No fee for the Application for Employment Authorization (Form I-765) is required if you are under the age of 14 or are 66 and older and applying for late initial registration.

• If you are applying for re-registration, you must pay the fee for the Application for Employment Authorization (Form I-765) only if you want an EAD regardless of age.

• You do not pay the fee for the Application for Employment Authorization (Form I-765) if you are not requesting an EAD, regardless of whether you are applying for late initial registration or re-registration.

You must submit both completed application forms together. If you are unable to pay for the application and/or biometrics fee, you may apply for a fee waiver by completing a Request for Fee Waiver (Form I-912) or submitting a personal letter requesting a fee waiver, and by providing satisfactory supporting documentation. For more information on the application forms and fees for TPS, please visit the USCIS TPS Web page at http://www.uscis.gov/tps. Fees for the Application for Temporary Protected Status (Form I-821), the Application for Employment Authorization (Form I-765), and biometric services are also described in 8 CFR 103.7(b)(1)(i).

Biometric Services Fee

Biometrics (such as fingerprints) are required for all applicants 14 years of age or older. Those applicants must submit a biometric services fee. As previously stated, if you are unable to pay for the biometric services fee, you may apply for a fee waiver by completing a Request for Fee Waiver (Form I-912) or by submitting a personal letter requesting a fee waiver, and providing satisfactory supporting documentation. For more information on the biometric services fee, please visit the USCIS Web site at http://www.uscis.gov. If necessary, you may be required to visit an Application Support Center to have your biometrics captured.

Re-Filing a Re-Registration TPS Application After Receiving a Denial of a Fee Waiver Request

USCIS urges all re-registering applicants to file as soon as possible within the 60-day re-registration period so that USCIS can process the applications and issue EADs promptly. Filing early will also allow those applicants who may receive denials of their fee waiver requests to have time to re-file their applications before the re-registration deadline. If, however, an applicant receives a denial of his or her fee waiver request and is unable to re-file by the re-registration deadline, the applicant may still re-file his or her application. This situation will be reviewed to determine whether the applicant has established good cause for late re-registration. However, applicants are urged to re-file within 45 days of the date on their USCIS fee waiver denial notice, if at all possible. See INA section 244(c)(3)(C); 8 U.S.C. 1254a(c)(3)(C); 8 CFR 244.17(c). For more information on good cause for late re-registration, visit the USCIS TPS Web page at http://www.uscis.gov/tps. Note: As previously stated, although a re-registering TPS beneficiary age 14 and older must pay the biometric services fee (but not the initial TPS application fee) when filing a TPS re-registration application, the applicant may decide to wait to request an EAD, and therefore not pay the Application for Employment Authorization (Form I-765) fee, until after USCIS has approved the individual's TPS re-registration, if he or she is eligible.

Mailing Information

Mail your application for TPS to the proper address in Table 1.

Table 1—Mailing Addresses
If . . . | Mail to . . .
You are applying through the U.S. Postal Service | USCIS, Attn: TPS Somalia, P.O. Box 6943, Chicago, IL 60680-6943.
You are using a non-U.S. Postal Service delivery service | USCIS, Attn: TPS Somalia, 131 S. Dearborn 3rd Floor, Chicago, IL 60603-5517.

If you were granted TPS by an Immigration Judge (IJ) or the Board of Immigration Appeals (BIA), and you wish to request an EAD, or are re-registering for the first time following a grant of TPS by the IJ or BIA, please mail your application to the appropriate address in Table 1. Upon receiving a Notice of Action (Form I-797) from USCIS, please send an email to TPSijgrant.vsc@uscis.dhs.gov with the receipt number and state that you submitted a re-registration and/or request for an EAD based on an IJ/BIA grant of TPS. You can find detailed information on what further information you need to email and the email addresses on the USCIS TPS Web page at http://www.uscis.gov/tps.

E-Filing

You cannot electronically file your application when re-registering or submitting a late initial registration for Somalia TPS. Please mail your application to the mailing address listed in Table 1.

Employment Authorization Document (EAD)

May I request an interim EAD at my local USCIS office?

No. USCIS will not issue interim EADs to TPS applicants and re-registrants at local offices.

Will my current EAD that is set to expire on March 17, 2014, be automatically extended for 6 months?

No. This notice does not automatically extend previously issued EADs. DHS has announced the extension of the TPS designation of Somalia and established the re-registration period at an early date to allow sufficient time for USCIS to process EAD requests prior to the March 17, 2014 expiration date. You must apply during the 60-day re-registration period. Failure to file your TPS application during the re-registration period without good cause may result in gaps in work authorization. DHS strongly encourages you to apply as early as possible within the re-registration period.

When hired, what documentation may I show to my employer as proof of employment authorization and identity when completing Employment Eligibility Verification (Form I-9)?

You can find a list of acceptable document choices on the “Lists of Acceptable Documents” for Employment Eligibility Verification (Form I-9). You can find additional detailed information on the USCIS I-9 Central Web page at http://www.uscis.gov/I-9Central. Employers are required to verify the identity and employment authorization of all new employees by using Employment Eligibility Verification (Form I-9). Within 3 days of hire, an employee must present proof of identity and employment authorization to his or her employer.

You may present any document from List A (reflecting both your identity and employment authorization), or one document from List B (reflecting identity) together with one document from List C (reflecting employment authorization). You may present an acceptable receipt for List A, List B, or List C documents as described in the Form I-9 Instructions. An EAD is an acceptable document under “List A.” Employers may not reject a document based on a future expiration date.

What documentation may I show my employer if I am already employed but my current TPS-related EAD is set to expire?

At the time of expiration, you must present any document from List A or any document from List C on Employment Eligibility Verification (Form I-9) to re-verify employment authorization, or an acceptable List A or List C receipt described in the Form I-9 instructions. Your employer is required to re-verify on Employment Eligibility Verification (Form I-9) the employment authorization of current employees upon the expiration of a TPS-related EAD. Your employer should use either Section 3 of the Employment Eligibility Verification (Form I-9) originally completed for the employee or, if this section has already been completed or if the version of Employment Eligibility Verification (Form I-9) is no longer valid, complete Section 3 of a new Employment Eligibility Verification (Form I-9) using the most current version. Note that your employer may not specify which List A or List C document employees must present, and cannot reject an acceptable receipt.

USCIS anticipates that it will be able to process and issue new EADs for existing TPS Somalia beneficiaries before their current EADs expire on March 17, 2014. However, re-registering beneficiaries are encouraged to file as early as possible within the 60-day re-registration period to help ensure that they receive their EADs promptly.

Can my employer require that I produce any other documentation to prove my status, such as proof of my Somali citizenship?

No. When completing Employment Eligibility Verification (Form I-9), including re-verifying employment authorization, employers must accept any documentation that appears on the “Lists of Acceptable Documents” for Employment Eligibility Verification (Form I-9) and that reasonably appears to be genuine and that relates to you or an acceptable List A, List B, or List C receipt. Employers may not request documentation that does not appear on the “Lists of Acceptable Documents.” Therefore, employers may not request proof of Somali citizenship when completing Employment Eligibility Verification (Form I-9) for new hires or re-verifying the employment authorization of current employees. If presented with EADs that are unexpired on their face, employers should accept such EADs as valid List A documents so long as the EADs reasonably appear to be genuine and to relate to the employee. Refer to the Note to Employees section for important information about your rights if your employer rejects lawful documentation, requires additional documentation, or otherwise discriminates against you based on your citizenship or immigration status, or your national origin.

Note to All Employers

Employers are reminded that the laws requiring proper employment eligibility verification and prohibiting unfair immigration-related employment practices remain in full force. This Notice does not supersede or in any way limit applicable employment verification rules and policy guidance, including those rules setting forth re-verification requirements. For general questions about the employment eligibility verification process, employers may call USCIS at 888-464-4218 (TTY 877-875-6028) or email USCIS at I-9Central@dhs.gov. Calls and emails are accepted in English and many other languages. For questions about avoiding discrimination during the employment eligibility verification process, employers may also call the U.S. Department of Justice, Office of Special Counsel for Immigration-Related Unfair Employment Practices (OSC) Employer Hotline at 800-255-8155 (TTY for the hearing impaired is at 800-237-2515), which offers language interpretation in numerous languages, or email OSC at osccrt@usdoj.gov.

Note to Employees

For general questions about the employment eligibility verification process, employees may call USCIS at 888-897-7781 (TTY 877-875-6028) or email at I-9Central@dhs.gov. Calls are accepted in English, Spanish and many other languages. Employees or applicants may also call the OSC Worker Information Hotline at 800-255-7688 (TTY for the hearing impaired is at 800-237-2515) for information regarding employment discrimination based upon citizenship, immigration status, or national origin, or for information regarding discrimination related to Employment Eligibility Verification (Form I-9) and E-Verify. The OSC Worker Information Hotline provides language interpretation in numerous languages.

To comply with the law, employers must accept any document or combination of documents from the List of Acceptable Documents if the documentation reasonably appears to be genuine and to relate to the employee, or an acceptable List A, List B, or List C receipt described in the Form I-9 Instructions. Employers may not require extra or additional documentation beyond what is required for Employment Eligibility Verification (Form I-9) completion. Further, employers participating in E-Verify who receive an E-Verify case result of “Tentative Nonconfirmation” (TNC) must promptly inform employees of the TNC and give such employees an opportunity to contest the TNC. A TNC case result means that the information entered into E-Verify from Employment Eligibility Verification (Form I-9) differs from the Social Security Administration, DHS, or DOS records. Employers may not terminate, suspend, delay training, withhold pay, lower pay or take any adverse action against an employee based on the employee's decision to contest a TNC or because the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). An employer that discriminates against an employee in the E-Verify process based on citizenship or immigration status, or based on national origin, may contact OSC's Worker Information Hotline at 800-255-7688 (TTY for the hearing impaired is at 800-237-2515). Additional information about proper nondiscriminatory Employment Eligibility Verification (Form I-9) and E-Verify procedures is available on the OSC Web site at http://www.justice.gov/crt/about/osc/ and the USCIS Web site at http://www.dhs.gov/E-verify.

Note Regarding Federal, State, and Local Government Agencies (Such as Departments of Motor Vehicles)

While Federal government agencies must follow the guidelines laid out by the Federal government, state and local government agencies establish their own rules and guidelines when granting certain benefits. Each state may have different laws, requirements, and determinations about what documents you need to provide to prove eligibility for certain benefits. Whether you are applying for a Federal, state, or local government benefit, you may need to provide the government agency with documents that show you are a TPS beneficiary and/or show you are authorized to work based on TPS. Examples are:

(1) Your unexpired EAD;

(2) A copy of your Application for Temporary Protected Status Notice of Action (Form I-797) for this re-registration; and/or

(3) A copy of your past or current Application for Temporary Protected Status Approval Notice (Form I-797), if you received one from USCIS.

Check with the government agency regarding which document(s) the agency will accept. You may also provide the agency with a copy of this Federal Register Notice.

Some benefit-granting agencies use the USCIS Systematic Alien Verification for Entitlements Program (SAVE) to verify the current immigration status of applicants for public benefits. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request can be found at the SAVE Web site at http://www.uscis.gov/save, then by choosing “How to Correct Your Records” from the menu on the right.

[FR Doc. 2013-25969 Filed 10-31-13; 8:45 am]

BILLING CODE 9111-97-P